DEPARTMENT OF TRANSPORTATION

Office of the Secretary

Notice of Applications for Certificates of Public Convenience and Necessity and Foreign Air Carrier Permits Filed Under Subpart B (Formerly Subpart Q) During the Week Ending January 6, 2006

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: OST-2006-23543.

Date Filed: January 4, 2006.

Due Date for Answers, Conforming Applications, or Motion to Modify Scope: January 25, 2006.

Description: Application of Globespan Airways Limited d/b/a Flyglobespan, requesting a foreign air carrier permit in order to engage in (i) scheduled foreign air transportation of persons, property, and mail between any point or points in the United States and any point or points in the United Kingdom excluding London's Heathrow and Gatwick airports, and (ii) charter foreign air transportation of persons, property and mail pursuant to the U.S.-U.K. Air Services Agreement and Part 212 of the Department's Economic Regulations. Flyglobespan plans to commence operations between the United Kingdom and the United States as early as May 1, 2006, providing scheduled combination service between Glasgow, Scotland and Orlando (Sanford), FL.

Renee V. Wright,
Program Manager, Docket Operations, Federal Register Liaison.

[FR Doc. E6-1411 Filed 2-1-06; 8:45 am]

BILLING CODE 4910-62-P